DEPARTMENT OF COMMERCE

National Oceanic and Atmospheric Administration

RIN 0648-XT92

Endangered Species; File No. 14396

AGENCY: National Marine Fisheries Service (NMFS), National Oceanic and Atmospheric Administration (NOAA), Commerce.

ACTION: Issuance of permit.

SUMMARY: Notice is hereby given the Delaware Department of Natural Resources and Environmental Control-Division of Fish and Wildlife, Dover, DE, has been issued a permit to take shortnose sturgeon (Acipenser brevirostrum) for purposes of scientific research.

ADDRESSES: The permit and related documents are available for review upon written request or by appointment in the following office(s):

• Permits, Conservation and Education Division, Office of Protected Resources, NMFS, 1315 East-West Highway, Room 13705, Silver Spring, MD 20910; phone (301) 713-2289; fax (301) 713-0376; and

• Northeast Region, NMFS, Protected Resources Division, 55 Great Republic Drive, Gloucester, MA 01930; phone (978) 281-9300; fax (978) 281-9333.

FOR FURTHER INFORMATION CONTACT: Malcolm Mohead or Kate Swails, (301) 713-2289.

SUPPLEMENTARY INFORMATION: On August 25, 2009, notice was published in the Federal Register (74 FR 42861) that a request for a scientific research permit to take shortnose sturgeon had been submitted by the above-named organization. The requested permit has been issued under the authority of the Endangered Species Act of 1973, as amended (ESA; 16 U.S.C. 1531 et seq.) and the regulations governing the taking, importing, and exporting of endangered and threatened species (50 CFR parts 222-226).

The applicant is authorized to conduct a five-year scientific study of shortnose sturgeon in the Delaware River where primary study objectives are to locate and document nursery areas, individual movement patterns, seasonal movements, home ranges, and habitats of juvenile shortnose sturgeon using telemetry. The project will be coordinated with an ongoing Atlantic sturgeon (Acipenser oxyrinchus oxyrhinchus) study having similar research objectives. Annually, up to 100 shortnose sturgeon will be weighed, measured, examined for tags, marked with Passive Integrated Transponder (PIT) tags and Floy tags, photographed and released. Additionally, a subset of up to 15 juvenile shortnose sturgeon will be anesthetized and implanted with acoustic transmitters. One unintentional mortality is authorized over the five year term of the project where sampling is scheduled from March 1 to December 15 each year.

Issuance of this permit, as required by the ESA, was based on a finding that such permit (1) was applied for in good faith, (2) will not operate to the disadvantage of such endangered or threatened species, and (3) is consistent with the purposes and policies set forth in section 2 of the ESA.

Dated: January 19, 2010.
Tammy C. Adams,
Acting Chief, Permits, Conservation and Education Division, Office of Protected Resources, National Marine Fisheries Service.

[FR Doc. 2010-1493 Filed 1-25-10; 8:45 am]

BILLING CODE 3510-22-S